DEPARTMENT OF ENERGY

Federal Energy Regulatory Commission

[Project No. 178-017]

Pacific Gas and Electric Company; Notice of Meeting

July 10, 2003.

a. Date and Time of Meeting: August 8, 2003 at 9 a.m.

b. Place: Rio Bravo River Rafting Parking Lot located on Rancheria Road approximately ¼ mile north of Highway 178, Bakersfield, California.

c. FERC Contact: Allison Arnold at (202) 502-6346; allison.arnold@ferc.gov.

d. Applicant Contact: Mr. Steve Nevares at (415) 973-3174.

e. Purpose of the Meeting: The Federal Energy Regulatory Commission will be conducting a site visit of the Kern Canyon Project (Project No.: 178-017).

f. Proposed Agenda:

1. Visit the Kern Canyon Project facilities

2. Discuss the concerns of all interested parties

g. All local, state, and Federal agencies, Indian Tribes, and interested parties, are hereby invited to attend this meeting as participants. If you wish to participate, please contact Allison Arnold at the number listed above no later than Thursday, July 31, 2003.

Magalie R. Salas,
Secretary.

[FR Doc. 03-18020 Filed 7-16-03; 8:45 am]

BILLING CODE 6717-01-P